DEPARTMENT OF TRANSPORTATION

Coast Guard

33 CFR Part 117

[CGD07-01-014]

Drawbridge Operation Regulations; Siesta Key Bridge (SR 758), Sarasota, FL

AGENCY: Coast Guard, DOT.

ACTION: Notice of temporary deviation from regulations.

SUMMARY: The Commander, Seventh Coast Guard District, has approved a temporary deviation from the regulations governing the operation of the Siesta Key Bridge (SR 758) across the Gulf Intracoastal Waterway, mile 71.6, Sarasota County, Sarasota, Florida. This deviation allows the drawbridge owner or operator to only open one leaf of the drawbridge, from 8 a.m. until 5 p.m., on March 5, 2001 and March 6, 2001. This temporary deviation is required to allow the bridge owner to safely complete maintenance on the bridge.

DATES: This deviation is effective from 8 a.m. on March 5, 2001 until 5 p.m. on March 6, 2001.

FOR FURTHER INFORMATION CONTACT: Mr. Barry Dragon, Chief, Operations Section, Seventh Coast Guard District, Bridge Section at (305) 415-6743.

SUPPLEMENTARY INFORMATION: The Siesta Key Bridge across the Gulf Intracoastal Waterway at Sarasota County, Sarasota, is a double leaf bridge with a vertical clearance of 21 feet above mean high water (MHW) measured at the fenders in the closed position with a horizontal clearance of 90 feet. On January 24, 2001, the Florida Department of Transportation, the drawbridge owner, requested a deviation from the current operating regulations in 33 CFR 117.287(b-1). These regulations require the draw to open on signal, except from 11 a.m. to 6 p.m. daily, the draw need only open on the hour, 20 minutes past the hour, and 40 minutes past the hour. This temporary deviation was requested to allow necessary maintenance to the drawbridge in a critical time sensitive manner.

The District Commander has granted a temporary deviation from the operating requirements listed in 33 CFR 117.287(b-1) for the purpose of maintenance on the drawbridge. Under this deviation, the Siesta Key Bridge need only open one leaf from 8 a.m. until 5 p.m., March 5, 2001 and March 6, 2001.

Dated: February 14, 2001.
Greg E. Shapley,
Chief, Bridge Administration, Seventh Coast Guard District.

[FR Doc. 01-4548 Filed 2-22-01; 8:45 am]

BILLING CODE 4910-15-P